DEPARTMENT OF HOMELAND SECURITY

Coast Guard

[CGD05-05-070]

Implementation of Sector North Carolina

AGENCY: Coast Guard, DHS.

ACTION: Notice of organizational change.

SUMMARY: The Coast Guard announces the stand-up of Sector North Carolina and its subordinate units, Marine Safety Unit (MSU) Wilmington and Sector Field Office (SFO) Cape Hatteras. Sector North Carolina is subordinate to the Fifth Coast Guard District.

DATES: This change was effective July 29, 2005.

ADDRESSES: Documents indicated in this preamble as being available in the docket are part of docket CGD05-05-070 and are available for inspection or copying at Fifth District Marine Safety Division, 431 Crawford Street, Portsmouth, VA 23704 between 7:30 a.m. and 4:30 p.m., Monday through Friday, except Federal holidays.

FOR FURTHER INFORMATION CONTACT: Commander Brian Hall, Fifth District Marine Safety Division at 757-398-6520.

SUPPLEMENTARY INFORMATION: The Sector North Carolina Commander has the authority, responsibility, and missions of the prior Group Fort Macon Commander, Group Cape Hatteras Commander and Commanding Officer Marine Safety Office (MSO) Wilmington, Captain of the Port (COTP), Officer in Charge, Marine Inspection (OCMI), Federal On Scene Coordinator (FOSC), Federal Maritime Security Coordinator (FMSC), and Search and Rescue Mission Coordinator (SMC). The Deputy Sector Commander is designated alternate COTP, FMSC, FOSC, SMC and Acting OCMI. The Deputy Sector Commander also assumes active search suspension (ACTSUS) authority in the absence of the Sector Commander. A COTP sub-zone for the Cape Fear River port area has also been established. The Commanding Officer (CO) MSU Wilmington is subordinate to the Sector Commander and has COTP authority for the Cape Fear River sub-zone. The Supervisor SFO Cape Hatteras is subordinate to the Sector Commander and will provide remote support to the Northern Outer Banks Sub-units. A continuity of operations order has been issued ensuring that all previous Group Fort Macon, Group Cape Hatteras, and MSO Wilmington practices and procedures will remain in effect until superseded by an authorized Coast Guard official and/or documents. This continuity of operations order addresses existing COTP regulations, orders, directives and policies.

Sector North Carolina is located at 2301 East Fort Macon Road, Atlantic Beach, NC 28512-5633. A command center supporting Sector North Carolina is located at this location. Sector North Carolina is composed of a Response Department, Prevention Department, and Logistics Department. All existing missions and functions performed by Group Fort Macon, Group Cape Hatteras, and MSO Wilmington have been realigned under this new organizational structure as of July 29, 2005. Group Fort Macon, Group Cape Hatteras, and MSO Wilmington no longer exist as organizational entities. The boundary of the Sector North Carolina Marine Inspection Zone, COTP Zone and SMC Area of Responsibility (AOR) is as follows: the boundary starts at the sea on the North Carolina-Virginia border at 36 degrees 33 minute N. Latitude, 75 degrees 52.5 minutes W. Longitude, and proceeds westerly along the North Carolina-Virginia boundary to the Tennessee boundary; thence southwesterly along the North Carolina-Tennessee boundary to the Georgia boundary; thence easterly along the North Carolina-Georgia boundary to the South Carolina boundary; thence easterly along the North Carolina-South Carolina boundary on the sea at 36 degrees 32.69 minutes N. latitude, 75 degrees 50.17 minutes W. longitude. The offshore boundary starts at the North Carolina-South Carolina border and proceeds southeasterly to the outermost extent of the Exclusive Economic Zone (EEZ) at 30 degrees 54.93 minutes N. latitude, 73 degrees 00.06 minutes W. longitude; thence northeasterly along the outermost extent of the EEZ to a point at 36 degrees 33 minutes N. latitude, 67 degrees 44.09 minutes W. longitude; then west to the North Carolina-Virginia border at the point 36 degrees 33 minutes N latitude, 75 degrees 52.5 minutes W.

The boundary of MSU Wilmington COTP Zone is encompassed by the Sector North Carolina Zone and starts at a point at 34 degrees 26 minutes N. latitude, 77 degrees 31 minutes W. longitude along the intersection of the Pender County and Onslow County lines on the Atlantic Coast and proceed northerly along the boundary Pender County and Onslow County to the intersection of the Pender County, Duplin County and Onslow County lines; thence northerly along the boundary of the Duplin and Onslow County to the intersection of the Duplin County, Onslow County and Jones County lines; thence northwesterly along the boundary of Duplin County and Jones County to the intersection of the Duplin County, Jones County, and Lenoir County lines; thence northwesterly along the boundary of Duplin County and Lenoir County to the intersection of the Duplin County, Lenoir County, and Wayne County lines; thence westerly along the boundary of Duplin County and Wayne County to the intersection of the Duplin County, Wayne County, and Sampson County lines; thence northerly along the boundary of Sampson County and Wayne County to the intersection of the Sampson County, Wayne County, and Johnston County lines; thence westerly along the boundary of Sampson County and Johnston County to the intersection of the Sampson County, Johnston County, and Harnett County lines; thence southwesterly along the boundary of Sampson County, Harnett County and Cumberland County lines; thence westerly along the boundary of Cumberland County and Harnett County to the intersection of the Cumberland County, Harnett County, and Moore County lines; thence southerly along the boundary of Cumberland County and Moore County to the intersection of the Cumberland County, Moore County, and Hoke County lines; thence westerly along the boundary of Hoke County and Moore County to the intersection of the Hoke County, Moore County, Richmond County, and Scotland County line; thence southeasterly along the boundary of Hoke County and Scotland County to the intersection of the Hoke County, Scotland County, and Robeson County lines; thence southwesterly along the boundary of Robeson County and Scotland County to the intersection of the Robeson County, Scotland County, and the North Carolina—South Carolina boundary; thence southeasterly along the North Carolina—South Carolina boundary to a point at 33 degrees 51.5 minutes N latitude, 78 degrees 33 minutes W longitude along the intersection of the North Carolina—South Carolina boundary on the Atlantic Coast: thence southeasterly to a point on a bearing of 122 degrees at 33 degrees 17.91 minutes N latitude, 77 degrees 31.77 minutes West longitude; thence north to a point at 34 degrees 26 minutes N latitude, 77 degrees 31 minutes W longitude.” A chart that depicts this area can be found on the Fifth District Web page at http://www.uscg.mil/d5/D5_Units/Sectors.htm.

The following information is a list of updated command titles, addresses and points of contact to facilitate requests from the public and assist with entry into security or safety zones.

Sector North Carolina: Sector Commander: CAPT Dean Lee, Deputy Sector Commander: CDR Dale Jones, Address: Commander, U.S. Coast Guard Sector North Carolina, 2301 East Fort Macon Road, Atlantic Beach, NC 28512-5633.

Contact: General Number, (252) 247-4500. Chief, Prevention Department: (252) 247-4520; Chief, Response Department: (252) 247-4535; Chief, Logistics Department: (252) 247-4450.

Marine Safety Unit, Wilmington: Commanding Officer: CDR Byron Black, Address: U.S. Coast Guard Marine Safety Unit Wilmington, 721 Medical Center Drive Suite 100, Wilmington, North Carolina 28401: (910) 772-2200.

Sector Field Office, Cape Hatteras: Supervisor: LT Joseph Abeyta, Address: U.S. Coast Guard Sector Field Office Cape Hatteras, 114 Woodhill Drive, Nags Head, North Carolina 27959: (252) 305-5188.

Dated: August 18, 2005.
L.L. Hereth,
Rear Admiral, U.S. Coast Guard, Commander, Fifth Coast Guard District.

[FR Doc. 05-17467 Filed 9-1-05; 8:45 am]

BILLING CODE 4910-15-P